DEPARTMENT OF COMMERCE

National Oceanic and Atmospheric Administration

[I.D. 070306C]

Vessel Monitoring Systems; Mobile Transmitter Unit and Enhanced Mobile Transmitter Unit Reimbursement Program

AGENCY: National Marine Fisheries Service (NMFS), National Oceanic and Atmospheric Administration (NOAA), Commerce.

ACTION: Notice of vessel monitoring systems reimbursement program.

SUMMARY: The National Marine Fisheries Service announces the availability of approximately $4.5 million in grant funds for fiscal year (FY) 2006 for vessel owners and/or operators who have purchased an Mobile Transmitter Unit (MTU) or Enhanced-Mobile Transmitter Unit (E-MTU) for the purpose of complying with fishery regulations requiring the use of Vessel Monitoring System (VMS) that became effective during FY 2006. The funds will be used to reimburse vessel owners and/or operators for the purchase price of the MTU or E-MTU. The maximum award per reimbursement is dependent upon the requirements of the applicable fishery management rule.

ADDRESSES: For a reimbursement application contact Pacific States Marine Fisheries Commission (PSMFC), 45 SE 82nd Drive, Suite 100, Gladstone, Oregon 97027-2522, phone 503-650-5300, fax 503-650-5426. To obtain copies of the list of NOAA-approved VMS mobile transmitting units and NOAA-approved VMS communications service providers write to: VMS Support Center, NOAA Fisheries Office for Law Enforcement (OLE), 8484 Georgia Avenue, Suite 415, Silver Spring, MD 20910.

FOR FURTHER INFORMATION CONTACT: For current listing information contact Mark Oswell, Outreach Specialist, phone 301-427-2300, fax 301-427-2055. For questions regarding MTU or E-MTU type approval or information regarding the status of VMS systems being evaluated by NOAA for approval, contact Jonathan Pinkerton, National VMS Program Manager, phone 301-427-2300; fax 301-427-2055. For questions regarding VMS installation or activation checklists, contact the VMS Support Center, NOAA Fisheries Office for Law Enforcement (OLE), 8484 Georgia Avenue, Suite 415, Silver Spring, MD 20910, phone 888-219-9228, fax 301-427-0049. For questions regarding reimbursement applications contact Randy Fisher, Executive Director, Pacific States Marine Fisheries Commission (PSMFC), 45 SE 82nd Drive, Suite 100, Gladstone, Oregon 97027-2522, phone 503-650-5300, fax 503-650-5426.

SUPPLEMENTARY INFORMATION:

I. Funding Opportunity Description

This reimbursement opportunity is available to fishing vessel owners and/or operators that have purchased MTU or E-MTU devices in order to comply with fishery regulations developed in accordance with the Magnuson-Stevens Fishery Conservation and Management Act(Manguson-Stevens Act), Public Law 94-265. Only those vessel owners and/or operators purchasing a MTU or E-MTU for compliance to fishery management rules becoming effective on or after October 1, 2005, are eligible for this funding opportunity.

The primary purpose of this reimbursement program is to offset the costs associated with compliance with fishery regulations developed pursuant to the Magnuson-Stevens Act. Reimbursable expenses include the purchase price of a MTU or E-MTU type-approved for a fishery requiring the use of VMS for which the owner and/or operator holds a valid commercial fishery permit in compliance with fishery regulations.

II. Eligibility

To be eligible to receive reimbursement vessel owners and/or operators must first purchase a MTU or E-MTU type-approved for the fishery requiring VMS for which the vessel owner and/or operator holds a valid commercial fishing permit. The vessel owner and/or operator must have the MTU or E-MTU properly installed on the vessel and activated utilizing a type-approved communications provider. Upon completion of the installation and activation process, the vessel owner and/or operator must contact the VMS Support Center by calling 888-219-9228 to ensure the vessel is properly registered in the VMS system. OLE does not consider a vessel in compliance until the MTU or E-MTU signal has been received and processed by OLE.

III. Process

Vessel owners and/or operators that have purchased a MTU or E-MTU, and have validated their compliance with the applicable regulations through OLE, may contact the PSMFC, 45 SE 82nd Drive, Suite 100, Gladstone, Oregon 97027-2522, phone 503-650-5300, fax 503-650-5426, for a reimbursement application. Once the application is received and completed by the vessel owner and/or operator, it must be returned to PSMFC along with proof of eligibility in order to qualify for an award. The required proof of eligibility includes proof of a valid commercial fishing permit for fishery requiring VMS; proof of purchase and the purchase price of a type-approved MTU or E-MTU; and a valid compliance confirmation code issued by OLE.

Vessel owners and/or operators are not restricted as to which type-approved MTU or E-MTU device they can purchase. However, the amount of the reimbursement will be limited to the cost of the least expensive MTU or E-MTU type-approved for their permitted fishery. Vessel owners and/or operators are encouraged to compare the features of all MTU and E-MTU devices type-approved for their permitted fishery prior to making their purchase decision. Vessel owners/operators are limited to reimbursement of the cost of purchasing one MTU or E-MTU per permitted vessel.

Dated: July 11, 2006.
William T. Hogarth,
Assistant Administrator for Fisheries, National Marine Fisheries Service.

[FR Doc. E6-11550 Filed 7-20-06; 8:45 am]

BILLING CODE 3510-22-S